ENVIRONMENTAL PROTECTION AGENCY

[FRL-6963-6]

Agency Information Collection Activities: Submission for OMB Review; Comment Request, Prevention of Significant Deterioration (PSD) and Non-attainment New Source Review (NSR) Programs

AGENCY: Environmental Protection Agency (EPA).

ACTION: Notice.

SUMMARY: In compliance with the Paperwork Reduction Act (44 U.S.C. 3501 et seq.), this document announces that the following continuing Information Collection Request (ICR) has been forwarded to the Office of Management and Budget (OMB) for review and approval: Prevention of Significant Deterioration and Non-attainment New Source Review: OMB Control Number 2060-0003, expiration date March 31, 2001. The ICR describes the nature of the information collection and its expected burden and cost, where appropriate, it includes the actual data collection instrument.

DATES: Comments must be submitted on or before May 7, 2001.

ADDRESSES: Send comments, referencing EPA ICR No. 1230.10 and OMB Control No. 2060-0003, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1230.10. For technical questions about the ICR contact Mark Sendzik at (919) 541-5534.

SUPPLEMENTARY INFORMATION: Title: Prevention of Significant Deterioration and Non-attainment New Source Review, OMB Control Number 2060-0003, EPA ICR Number 1230.10, expiration date March 31, 2001. This is a request for extension of a currently approved collection.

Abstract: Part C of the Clean Air Act (Act)—“Prevention of Significant Deterioration,” and Part D—“Plan Requirements for Nonattainment Areas,” require all States to adopt preconstruction review programs for new or modified stationary sources of air pollution. Implementing regulations for State adoption of these two New Source Review (NSR) programs into a State Implementation Plan (SIP) are promulgated at 40 CFR 51.160 through 51.166 and appendix S to part 51. Federal permitting regulations are promulgated at 40 CFR 52.21 for PSD areas that are not covered by a SIP program.

In order to receive a construction permit for a major new source or major modification, the applicant must conduct the necessary research, perform the appropriate analyses and prepare the permit application with documentation to demonstrate that their project meets all applicable statutory and regulatory NSR requirements. Specific activities and requirements are listed and described in the Supporting Statement for the ICR.

Permitting agencies, either State, local or Federal, review the permit application to affirm the proposed source or modification will comply with the Act and applicable regulations. The permitting Agency then provides for public review of the proposed project and issues the permit based on its consideration of all technical factors and public input. The EPA, more broadly, reviews a fraction of the total applications and audits the State and local programs for their effectiveness. Consequently, information prepared and submitted by the source is essential for the source to receive a permit, and for Federal, State and local environmental agencies to adequately review the permit application and thereby properly administer and manage the NSR programs.

Information that is collected and handled according to EPA's policies set forth in title 40, chapter 1, part 2, subpart B—Confidentiality of Business Information (see 40 CFR part 2). See also section 114(c) of the Act.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on September 5, 2000 (65 FR 53716). One written comment was received. The comment is summarized in appendix H to the Supporting Statement for the ICR, and is responded to in the appropriate sections of the Supporting Statement for the ICR.

Burden Statement: The annual public reporting and recordkeeping burden for this collection of information is broken down as follows:

Type of permit action | Major PSD | Major Part D | Minor
Number of sources | 320 | 520 | 56,500
Burden Hours per Response:
Industry | 839 | 577 | 40
Permitting agency | 272 | 109 | 30

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Industrial plants, State and Local permitting agencies.

Estimated Number of Respondents: 114,820.

Frequency of Response: On occasion.

Estimated Total Annual Hour Burden: 4,715,260.

Estimated Total Annualized Capital, O&M Cost Burden: 0.

Send comments on the Agency's need for this information, the accuracy of the provided burden estimates, and any suggested methods for minimizing respondent burden, including through the use of automated collection techniques to the following addresses.

Please refer to EPA ICR No.1230.10 and OMB Control No. 2060-0003 in any correspondence.

Dated: March 23, 2001.
Oscar Morales,
Director, Collection Strategies Division.

[FR Doc. 01-8494 Filed 4-5-01; 8:45 am]

BILLING CODE 6560-50-U